DEPARTMENT OF AGRICULTURE

Agricultural Marketing Service

[Document Number AMS-NOP-15-0037; NOP-15-11]

Notice of Meeting of the National Organic Standards Board

AGENCY: Agricultural Marketing Service, USDA.

ACTION: Notice of public meeting.

SUMMARY: In accordance with the Federal Advisory Committee Act, as amended, (5 U.S.C. App.), the Agricultural Marketing Service (AMS), Department of Agriculture, is announcing a meeting of the National Organic Standards Board (NOSB) to assist the Department in the development of standards for substances to be used in organic production and to advise the Secretary of Agriculture on any other aspects of the implementation of Organic Foods Production Act.

DATES: The Board will hold two webinars at which it will receive public comment: October 13 and October 20, from 1:00 p.m. to 4:00 p.m. Eastern Time. A face-to-face meeting will be held October 26-29, 2015, from approximately 9:00 a.m. to approximately 6:00 p.m. Eastern Time. Deadline to sign up for oral comment: midnight Eastern Time, 30 days after publication of this notice. Deadline to submit written comments: midnight Eastern Time, 30 days after publication of this notice.

ADDRESSES: The October 13 and 20 meetings will take place via webinar (access information will be available prior to the webinars). The October 26-29, 2015 meeting will take place at the Stoweflake Conference Center, 1746 Mountain Road Stowe, VT 05672, (802) 253-7355, www.stoweflake.com. Detailed information pertaining to the meetings, including instructions about providing written and oral comments can be found at www.ams.usda.gov/NOSBMeetings

FOR FURTHER INFORMATION CONTACT: Ms. Michelle Arsenault, Advisory Committee Specialist, National Organic Standards Board, USDA-AMS-NOP, 1400 Independence Ave. SW., Room 2642-So., Mail Stop 0268, Washington, DC 20250-0268; Phone: (202) 720-3252; Email: nosb@ams.usda.gov.

SUPPLEMENTARY INFORMATION: The NOSB makes recommendations to the Department of Agriculture about whether substances should be allowed or prohibited in organic production and/or handling, assists in the development of standards for organic production, and advises the Secretary on other aspects of the implementation of the Organic Foods Production Act (7 U.S.C. 6501-6522). The public meeting allows the NOSB to discuss and vote on proposed recommendations to the USDA, receive updates from the USDA National Organic Program (NOP) on issues pertaining to organic agriculture, and receive comments from the organic community. The meeting is open to the public. The meeting agenda, NOSB proposals and discussion documents, instructions for submitting and viewing public comments, and instructions for requesting time for oral comments will be available on the NOP Web site at www.ams.usda.gov/NOSBMeetings. Meeting topics will encompass a wide range of issues, including: substances petitioned for addition to or deletion from the National List of Allowed and Prohibited Substances (National List), substances on the National List that require NOSB review before their 2017 sunset dates, and guidance on organic policies. At this meeting, the NOSB will complete its review of substances that have a sunset date in 2017, fulfilling the NOSB's responsibilities described in the Organic Foods Production Act's sunset provision (section 2118(e)).

Public Comments:

Written comments:

Written public comments will be accepted on or before midnight Eastern Time, 30 days after publication of this notice via www.regulations.gov. Comments submitted after this date will be provided to the NOSB, but Board members may not have adequate time to consider those comments prior to making a recommendation. The NOP strongly prefers comments to be submitted electronically; however, written comments may also be submitted (i.e. postmarked) by the deadline, via mail to Ms. Michelle Arsenault listed under FOR FURTHER INFORMATION CONTACT.

Oral Comments:

The NOSB is providing the public multiple dates and opportunities to provide oral comments and will accommodate as many individuals and organizations as time permits. Persons or organizations wishing to make oral comments must pre-register by midnight Eastern Time, 30 days after publication of this notice, and can only register for one speaking slot: either during one of the two webinars, October 13 or 20, 2015, or at the face-to-face meeting October 26-29, 2015. Instructions for registering and participating in the webinar can be found at www.ams.usda.gov/NOSBMeetings or by contacting Michelle Arsenault listed under FOR FURTHER INFORMATION CONTACT.

Meeting Accommodations: The meeting hotel is ADA Compliant, and the USDA provides reasonable accommodation to individuals with disabilities where appropriate. If you need a reasonable accommodation to participate in this public meeting, please notify Michelle Arsenault listed under FOR FURTHER INFORMATION CONTACT. Determinations for reasonable accommodation will be made on a case-by-case basis.

Dated: August 28, 2015.
Rex A. Barnes,
Associate Administrator, Agricultural Marketing Service.

[FR Doc. 2015-21736 Filed 9-4-15; 8:45 am]

BILLING CODE 3410-02-P